DEPARTMENT OF THE INTERIOR

National Park Service

[NPS-WASO-CR-10795; 2200-1100-665]

Agency Information Collection Activities: 30-Day Notice of Intention To Request Clearance of Collection of Information; Opportunity for Public Comment

AGENCY: National Park Service, Interior.

ACTION: Notice and request for comments.

SUMMARY: We (National Park Service) have submitted to the Office of Management and Budget (OMB) the information collection request (ICR) described below. As required by the Paperwork Reduction Act of 1995 and as part of our continuing efforts to reduce paperwork and respondent burden, we invite the general public and other Federal agencies to take this opportunity to comment on this ICR which is an extension of a currently approved collection of information (OMB #1024-0144). We may not conduct or sponsor, and a person is not required to respond to, a collection of information unless it displays a currently valid OMB control number.

DATES: To ensure that your comments on this ICR are considered, please submit them on or before September 19, 2012.

ADDRESSES: Please submit written comments on this information collection directly to the Office of Management and Budget (OMB) Office of Information and Regulatory Affairs, Attention: Desk Officer for the Department of the Interior via email to OIRA_DOCKET@omb.eop.gov or fax at 202-395-5806; and identify your submission as “1024-0144, Native American Graves Protection and Repatriation Regulations.” Please send a copy of your comments to Madonna L. Baucum, Information Collection Clearance Officer, National Park Service, 1849 C Street NW., Mailstop 2605 (Rm. 1242), Washington, DC 20240 (mail); or madonna_baucum@nps.gov (email).

FOR FURTHER INFORMATION CONTACT: Sherry Hutt, Manager, National NAGPRA Program, National Park Service, 1201 Eye Street NW., 8th floor, Washington, DC 20005; or via phone at 202/354-1479; or via fax at 202/354-5179; or via email at Sherry_Hutt@nps.gov.

I. Abstract

The Native American Graves Protection and Repatriation Act (NAGPRA), requires museums to compile certain information (summaries, inventories, and notices) regarding Native American cultural items in their possession or control and provide that information to lineal descendants, likely interested Indian tribes and Native Hawaiian organizations, and the National NAGPRA Program (acting on behalf of the Secretary of the Interior, housed in the National Park Service), to support consultation in the process of publishing notices that establish rights to repatriation. The summaries are general descriptions of the museum's Native American collection, sent to all possibly interested tribes to disclose the collection, should the tribe desire to consult on items and present a claim. The inventories are item-by-item lists of the human remains and their funerary objects, upon which the museum consults with likely affiliated tribes to determine cultural affiliation, tribal land origination, or origination from aboriginal lands of Federal recognized tribes.

Consultation and claims for items require information exchange between museums and tribes on the collections. Notices of Inventory Completion, published in the Federal Register indicate the museum decisions of rights of lineal descendants and tribes to receive human remains and funerary objects; Notices of Intent to Repatriate, published in the Federal Register, indicate the agreements of museums and tribes to transfer control to tribes of funerary objects, sacred objects and objects of cultural patrimony. Museums identify NAGPRA protected items in the collection through examination of museum records and from consultation with tribes.

The National NAGPRA Program maintains the public databases of summary, inventory and notice information to support consultation. In the first 20 years of the administration of NAGPRA approximately 40,000 Native American human remains, of a possible collection of 180,000 individuals, have been listed in NAGPRA notices. Information collected in previous years is of lasting benefit, diminishing efforts in future years.

II. Data

OMB Control Number: 1024-0144.

Title: Native American Graves Protection and Repatriation Regulations, 43 CFR Part 10.

Form(s): None.

Type of Request: Extension of a previously approved collection of information.

Description of Respondents: Museums that receive Federal funds and have possession over Native American cultural items.

Respondent's Obligation: It is mandatory to comply with the requirements of the law.

Frequency of Collection: On occasion.

| Total annual responses | Avgerage time per response (hours) | Total annual burden hours
Summary or Inventory Completion (new) | 2 | 100 | 200
Inventory or Summary Completion Updates | 245 | 10 | 2,450
Notices | 64 | 10 | 640
Subtotals | 311 |  | 3,290
Summary or Inventory (new) | 1 | 100 | 100
Inventory or Summary Completion Updates | 226 | 10 | 2,260
Notices | 41 | 10 | 410
Subtotals | 268 |  | 2,770
Totals | 579 |  | 6,060

Estimated Annual Nonhour Burden Cost: None.

III. Request for Comments

We invite comments concerning this ICR on:

• Whether or not the collection of information is necessary, including whether or not the information will have practical utility;

• The accuracy of our estimate of the burden for this collection of information;

• Ways to enhance the quality, utility, and clarity of the information to be collected; and

• Ways to minimize the burden of the collection of information on respondents.

Please note that the comments submitted in response to this notice are a matter of public record. Before including your address, phone number, email address, or other personal identifying information in your comment, you should be aware that your entire comment, including your personal identifying information, may be made publicly available at any time. While you can ask us in your comment to withhold your personal identifying information from public review, we cannot guarantee that we will be able to do so.

Dated: August 14, 2012.
Madonna L. Baucum,
Information Collection Clearance Officer, National Park Service.

[FR Doc. 2012-20361 Filed 8-17-12; 8:45 am]

BILLING CODE 4312-52-P